FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—01/09/2006
20060330 | Wells Fargo & Company | Secured Capital Corp | Secured Capital Corp.
20060358 | Carso Global Telecom, S.A. de C.V | 2Wire, Inc | 2Wire, Inc.
20060362 | Alcatel | 2Wire, Inc | 2Wire, Inc.
20060378 | ITOCHU Corporation | Sandra Stetson Schifter | LaSportsac, Inc.
20060382 | ValueAct Capital Master Fund, L.P.ENT>ADESA, Inc | ADESA, Inc.
20060425 | Ronald O. Perelman | The Rank Group Plc | Atlab Holdings Pty. Ltd. (Aust), Delux Digital Studios Limited (UK), Deluxe Entertainment Services, Inc., Deluxe Holdings Inc. (US), Deluxe Italia S.P.A. (Italy), Deluxe Laboratories Holdings Espana S.L. (Spain), Deluxe Laboratories Inc. (US), Deluxe Laboratories Ltd. (UK), Deluxe Media Managmeent, Inc. (Canada), Delux Toronto Ltd. (Canada), Denham Telecine Limited (UK), Rank Leasing Limited (UK), Rank Studio Limited (UK).
20060432 | Kindred Healthcare, Inc | Health Care REIT, Inc | Health Care REIT, Inc.
20060439 | Symantec Corporation | IMlogic, Inc | IMlogic, Inc.
Transactions Granted Early Termination—01/10/2006
20060355 | Royal Dutch Shell plc | TOTAL S.A | TOTAL E&P USA, Inc.
20060371 | Magellan Health Services, Inc | National Imaging Associates, Inc | National Imaging Associates, Inc.
Transactions Granted Early Termination—01/11/2006
20060339 | Babcock & Brown Infrastructure Limited | Hydro-Quebec | Cross-Sound Cable Company, LLC.
20060352 | The Empire District Electric Company | Aquila, Inc | Aquila, Inc.
20060367 | Linsalata Capital Partners Fund IV, L.P | Harden Manufacturing Corporation | Briar Garrett, LLC, Harden Aviation, LLC, Harden Shipping, Inc., Harden Transport, Inc., Smith Land Holdings, LLC, Smith Properties, LLC.
20060379 | Carillion plc | Mowlem plc | Mowlem plc.
20060409 | J.P. Morgan Chase & Co | Collegiate Funding Services, Inc | Collegiate Funding Services, Inc.
20060417 | Apax Europe VI-A, L.P | Contech Holdings Corporation | Contech Holdings Corporation.
20060421 | Montagu III L.P | Smith & Nephew plc | BSN medical GmbH & Co. KG, BSN medical Management GmbH, Smith & Nephew JV (Holding) GmbH.
20060422 | Montagu III L.P | Tchibo Holding AG | BSN medical GmbH & Co. KG, BSN medical Management GmbH, Smith & Nephew JV (Holding) GmbH.
20060427 | Billabong International Ltd | Nixon, Inc | Nixon, Inc.
20060445 | Odyssey Investment Partners Fund III, L.P | Bexil Corporation | York Insurance Services Group, Inc.
20060446 | Odyssey Investment Partners Fund III, L.P | Thomas C. MacArthur | York Insurance Services Group, Inc.
Transactions Granted Early Termination—01/12/2006
20060452 | iPass, Inc | GoRemote Internet Communications, Inc | GoRemote Internet Communications, Inc.
20060464 | Progress Software Corporation | NEON Systems, Inc | NEON Systems, Inc.
Transactions Granted Early Termination—01/13/2006
20060457 | Levine Leichtman Capital Partners III, L.P | Fox & Hound Restaurant Group | Fox & Hound Restaurant Group.
20060458 | Fidelity National Financial, Inc | Marsh & McLennan Companies, Inc | Sedgwick CMS Holdings, Inc.
20060463 | Liberty Media Corporation | Fun Technologies plc | Fun Technologies plc.
20060465 | International Business Machines Corporation | Micromuse Inc | Micromuse Inc.
20060482 | Gregory S. Daily | iPayment, Inc | iPayment, Inc.
Transactions Granted Early Termination—01/18/2006
20060244 | REA Magnet Wire Company, Inc | Phelps Dodge Corporation | Phelps Dodge Industries, Inc., Phelps Dodge wire and Cable Holdings de Mexico, S.A. de C.V.
20060307 | Encore Medical Corporation | Compex Technologies, Inc | Compex Technologies, Inc.
20060401 | Matria Healthcare, Inc | CorSolutions Medical, Inc | CorSolutions Medical, Inc.
20060405 | Amgen Inc | Abgenix, Inc | Abgenix, Inc.
Transactions Granted Early Termination—01/20/2006
20051356 | Marquee Holdings Inc | LCE Holdings, Inc | LCE Holdings, Inc.
20051577 | Teva Pharmaceutical Industries Limited | Ivax Corporation | Ivax Corporation.
20060435 | AstraZeneca plc | Targacept, Inc | Targacept, Inc.
20060447 | Castle Harlan Partners IV, L.P | RathGibson, Inc | RathGibson, Inc.
20060459 | Michael J. Cantanucci | Richard E. Bastin | G.S.M. of Palm Beach, Ltd., Gulf Stream Motors, Inc.
20060468 | Doughty Hanson & Co IV | Spirent plc | HellermannTyton Corporation.
20060474 | Wolseley plc | Joseph F. Umosella 2006 Trust | Universal Express, Inc., Universal Supply Company, Inc.
20060476 | Sentinel Capital partners III, L.P | Strategic Partners, Inc | Strategic Partners, Inc.
Transactions Granted Early Termination—01/23/2006
20060298 | GGC Investment Fund II, L.P | APA Excelsior V L.P | CML Emergency Services, Inc.
20060411 | Lockheed Martin Corporation | Aspen Systems Corporation Employee Stock Ownership Trust | Aspen Systems Corporation.
20060442 | ARES Corporate Opportunities Fund, L.P | Samsonite Corporation | Samsonite Corporation.
20060467 | Ralph Lauren | Jones Apparel Group, Inc | Sun Apparel, Inc.
20060480 | Mercury Interactive Corporation | Warburg Pincus Private Equity VIII, L.P | Systinet Corporation.
20060484 | TA IX L.P | Coleman Fung | Open Link Financial, Inc.
20060488 | Mr. William Paulos | Stronach Trust | MEC Pennsylvania Racing, Inc., Mountain Laurel Racing, Inc., Washington Trotting Association, Inc.
20060489 | Mr. William Wortman | Stronach Trust | MEC Pennsylvania Racing, Inc., Mountain Laurel Racing, Inc., Washington Trotting Association, Inc.,
20060498 | Audax Private Equity Fund II, L.P | Zurich Financial Services | BEI Holding Corporation.
Transactions Granted Early Termination—01/24/2006
20060415 | Ameren Corporation | Aquila, Inc | Aquila Piatt County Power, L.L.C., MEP Flora Power, LLC.
20060455 | OCM Opportunities Fund VI, L.P | Peter and Liesel Mager | Nordenia International AG.
20060456 | OCM Principal Opportunities Fund III, L.P | Peter and Liesel Mager | Nordenia International AG.
20060487 | Health Net, Inc | Howard E. Davis | Universal Care, Inc.
20060494 | Bain Capital Integral Investors, LLC | David T. Traitel | SSSI, LLC.
20060505 | Wellspring Capital Partners III, L.P | Save & Buster's, Inc | Dave & Buster's, Inc.
Transactions Granted Early Termination—01/25/2006
20060479 | The Sage Group | Verus Financial Management, Inc | Verus Financial Management, Inc.
Transactions Granted Early Termination—01/26/2006
20060428 | Joseph D. Mansueto | Roger G. Ibbotson | Ibbotson Associates, Inc.
20060500 | Quad-C Partners VI, L.P | BKBII Management, L.L.C | KBII Holdings, Inc.
Transactions Granted Early Termination—01/27/2006
20060436 | AstraZeneca plc | AtheroGenics, Inc | AtheroGenics, Inc.
20060462 | Southern Union Company | SRCG, Ltd | Richardson Energy Marketing, Ltd., Sid Richardson Energy Services, Ltd.
20060473 | FMR Corp | Laird Norton Company LLC | Lanoga Corporation.
20060475 | FMR Corp | Pro-Build Holdings, Inc | Pro-Build Holdings, Inc.
20060486 | ProAssurance Corporation | Physicians Insurance Company of Wisconsin, Inc | Physicians Insurance Company of Wisconsin, Inc.
20060504 | Danaher Corporation | First Technology PLC | First Technology PLC.
20060525 | Danaher Corporation | First Technology PLC | First Technology PLC.

FOR FURTHER INFORMATION CONTACT: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. 06-1503 Filed 2-16-06; 8:45 am]

BILLING CODE 6750-01-M